DEPARTMENT OF ENERGY

Federal Energy Regulatory Commission

[Docket No. EL16-25-000]

Startrans IO, LLC; Notice of Institution of Section 206 Proceeding and Refund Effective Date

On December 30, 2015, the Commission issued an order in Docket No. EL16-25-000, pursuant to section 206 of the Federal Power Act (FPA), 16 U.S.C. 824e (2012), instituting an investigation into the justness and reasonableness of Startrans IO, LLC's proposed transmission revenue requirement reduction. Startrans, IO, LLC, 153 FERC ¶ 61,360 (2015).

The refund effective date in Docket No. EL16-25-000, established pursuant to section 206(b) of the FPA, will be the date of publication of this notice in the Federal Register.

Dated: December 30, 2015.
Nathaniel J. Davis, Sr.,
Deputy Secretary.

[FR Doc. 2015-33227 Filed 1-5-16; 8:45 am]

BILLING CODE 6717-01-P